COMMISSION ON CIVIL RIGHTS

Agenda and Notice of Public Meeting of the New Jersey Advisory Committee

Notice is hereby given, pursuant to the provisions of the rules and regulations of the U.S. Commission on Civil Rights, that a planning meeting with briefing of the New Jersey Advisory Committee to the Commission will convene at 9:30 a.m. and adjourn at 4 p.m. on Tuesday, December 3, 2002, at the New Jersey State House, Room One, 125 W. State Street, Trenton, New Jersey 08625. The purpose of the planning meeting with briefing is to (1) review the status of current activity, (2) plan new projects, and (3) receive briefings from invited speakers on civil rights developments in the State.

Persons desiring additional information, or planning a presentation to the Committee, should contact Chairperson Leanna Y. Brown, 973-635-8660 or Ki-Taek Chun, Director of the Eastern Regional Office, 202-376-7533 (TDD 202-376-8116). Hearing-impaired persons who will attend the meeting and require the services of a sign language interpreter should contact the Regional Office at least 10 working days before the scheduled date of the meeting.

The meeting will be conducted pursuant to the provisions of the rules and regulations of the Commission.

Dated in Washington, DC, November 25, 2002.
Ivy L. Davis,
Chief, Regional Programs Coordination Unit.

[FR Doc. 02-30398 Filed 11-29-02; 8:45 am]

BILLING CODE 6335-01-P